INTERNATIONAL TRADE COMMISSION

[Investigation Nos. 731-TA-457-A-D (Fourth Review)]

Heavy Forged Hand Tools From China

Determinations

On the basis of the record ¹ developed in the subject five-year reviews, the United States International Trade Commission (“Commission”) determines, pursuant to the Tariff Act of 1930 (“the Act”), that revocation of the antidumping duty orders on heavy forged hand tools from China would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on July 1, 2016 (81 FR 43235) and determined on October 4, 2016, that it would conduct expedited reviews (81 FR 73417, October 25, 2016).

The Commission made these determinations pursuant to section 751(c) of the Act (19 U.S.C. 1675(c)). It completed and filed its determinations in these reviews on December 15, 2016. The views of the Commission are contained in USITC Publication 4654 (December 2016), entitled Heavy Forged Hand Tools from China: Investigation Nos. 731-TA-457-A-D (Fourth Review).

By order of the Commission.
Issued: December 15, 2016.
Lisa R. Barton,
Secretary to the Commission.

[FR Doc. 2016-30636 Filed 12-19-16; 8:45 am]

BILLING CODE 7020-02-P